DEPARTMENT OF JUSTICE

Office of Justice Programs

Agency Information Collection Activities: New Collection; Comment Request

ACTION: Notice of Information Collection Under Review; (New Collection); Survey of Youth in Residential Placement.

The Department of Justice, Office of Juvenile Justice and Delinquency Prevention, has submitted the following information collection request for review and clearance in accordance with the Paperwork Reduction Act of 1995. Office of Management and Budget approval is being sought for the information collection listed below. This proposed information collection was previously published in the Federal Register on September 1, 1999, allowing for a 60-day public comment period.

The purpose of this notice is to allow an additional 30 days for public comment until February 22, 2000. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Clearance Officer, Suite 1220, 1331 Pennsylvania Avenue NW, Washington, DC 20530. Additionally, comments may be submitted to DOJ via facsimile to (202) 514-1590.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: New collection.

(2) The title of the form/collection: Survey of Youth in Residential Placement.

(3) The agency form number, if any, and the applicable component of the Department sponsoring the collection: None; Office of Justice Programs, Office of Juvenile Justice and Delinquency Prevention

(4) Affected public who will be asked or required to respond, as well as a brief abstract:

Primary: Juveniles in residential juvenile justice facilities

Other: Juvenile Justice Facilities

42 U.S.C. 5653 authorizes the Office of Juvenile Justice and Delinquency Prevention to collect information on all aspects of the juvenile justice system and juvenile offenders. This survey will collect some information from juvenile justice facilities and will survey juveniles resident in these facilities. The survey will take at most 1 hour to complete and cover the juvenile's background, needs, and services received.

(5) An estimate of the total number of respondents and the amount of time estimated for an average respondent to respond/reply: 40 facilities in 2000 and 280 facilities in 2002 at 1 hour for each facility; 1600 juveniles in 2000 and 10,500 in 2002 at 0.75 hours per juvenile.

(6) An estimate of the total public burden (in hours) associated with the collection: 9,395 hours including facility and juvenile responses.

If additional information is required contact: Ms. Brenda E. Dyer, Deputy Clearance Officer, United States Department of Justice, Information Management and Security Staff, Justice Management Division, Suite 850, Washington Center, 1001 G Street, NW, Washington, DC 20530, or via facsimile at (202) 514-1534.

Dated: January 12, 2000.
Brenda E. Dyer,
Department Deputy Clearance Officer, United States Department of Justice.

[FR Doc. 00—1254 Filed 1-19-00; 8:45 am]

BILLING CODE 4410-18-M